DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. 35).

Agency: United States Patent and Trademark Office (USPTO).

Title: Patent Examiner Employment Application.

Form Number(s): None.

Type of Request: Revision of a currently approved collection.

Burden: 5,000 hours annually.

Number of Respondents: 10,000 responses per year.

Avg. Hours per Response: The USPTO expects that it will take the public approximately 30 minutes (0.50 hours) to gather the necessary information, create the document, and submit the completed request, depending upon the type of request and the method of submission (electronic or paper).

Needs and Uses: The Patent Examiner Employment Application, as administered through Monster Hiring Management (MHM) provided by Monster Government Solutions, is used by the public to apply for entry-level patent examiner positions through a user-friendly process. The USPTO uses the electronic transmission of this information to review and rate applicants on-line almost instantaneously. It is also used by the USPTO to expedite the hiring process by eliminating the time used in the mail distribution process, thereby streamlining labor and reducing costs.

The information supplied to the USPTO by an applicant seeking a patent examiner position assists the Human Resources Specialists and hiring managers in determining whether or not an applicant possesses the basic qualifications for that position.

Affected Public: Individuals.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: InformationCollection@uspto.gov. Include “0651-0042 copy request” in the subject line of the message.

• Mail: Susan K. Fawcett, Records Officer, Office of the Chief Information Officer, United States Patent and Trademark Office, P.O. Box 1450, Alexandria, VA 22313-1450.

Written comments and recommendations for the proposed information collection should be sent on or before August 29, 2011 to Nicholas A. Fraser, OMB Desk Officer, via e-mail to Nicholas_A._Fraser@omb.eop.gov, or by fax to 202-395-5167, marked to the attention of Nicholas A. Fraser.

Dated: July 25, 2011.
Susan K. Fawcett,
Records Officer, USPTO, Office of the Chief Information Officer.

[FR Doc. 2011-19056 Filed 7-27-11; 8:45 am]

BILLING CODE 3510-16-P